DEPARTMENT OF AGRICULTURE

Forest Service

Sabine Resource Advisory Committee

AGENCY: Forest Service, USDA.

ACTION: Notice of meeting cancellation.

SUMMARY: The Sabine-Angelina Resource Advisory Committee was scheduled to meet October 20, 2011 in Hemphill, Texas. The committee is authorized under the Secure Rural Schools and Community Self-Determination Act (Pub. L. 110-343) (the Act) and operates in compliance with the Federal Advisory Committee Act. The committee's charter expires in October 2011 and its renewal is under review by the Secretary of Agriculture. In compliance with the Federal Advisory Committee Act the committee will not be meeting until the charter is renewed.

DATES: The cancelled meeting was scheduled to be held via teleconference call on Thursday, October 20, 2011, 3:30 p.m.

ADDRESSES: The canceled meeting would have been held at the Sabine National Forest Office, 5050 State Hwy 21 East, Hemphill, TX 75948. Written comments concerning this cancellation may be submitted to the Designated Federal Officer.

All comments, including names and addresses when provided, are placed in the record and are available for public inspection and copying. The public may inspect comments received at 5050 State Hwy 21 East, Hemphill, TX 75948. Please call ahead to (409) 625-1940 to facilitate entry into the building to view comments.

FOR FURTHER INFORMATION CONTACT: William E. Taylor, Jr., Designated Federal Officer, Sabine National Forest, 5050 State Hwy. 21 E., Hemphill, TX 75948: Telephone: 936-639-8501 or e-mail at: etaylor@fs.fed.us.

Individuals who use telecommunication devices for the deaf (TDD) may call the Federal Information Relay Service (FIRS) at 1-800-877-8339 between 8 a.m. and 8 p.m., Eastern Standard Time, Monday through Friday.

Dated: October 17, 2011.
William E. Taylor, Jr.,
Designated Federal Officer, Sabine National Forest RAC.

[FR Doc. 2011-27610 Filed 10-24-11; 8:45 am]

BILLING CODE 3410-11-P